DEPARTMENT OF AGRICULTURE

Rural Utilities Service

Dairyland Power Cooperative, Notice of Availability of an Environmental Assessment

AGENCY: Rural Utilities Service, USDA.

ACTION: Notice of availability of an environmental assessment.

SUMMARY: Notice is hereby given that the Rural Utilities Service (RUS) is publishing an environmental assessment (EA) for a project proposed by Dairyland Power Cooperative (DPC) of La Crosse, Wisconsin. The project consists of constructing a natural gas-fired simple cycle, combustion turbine power generation facility in Wheaton Township in Chippewa County, Wisconsin. Total electrical output from the facility is expected to range from 71 megawatts (MW) to 98 MW depending upon operating conditions. RUS proposes to provide financial assistance to DPC for this project.

FOR FURTHER INFORMATION CONTACT: Nurul Islam, Environmental Protection Specialist, Rural Utilities Service, Engineering and Environmental Staff, Stop 1571, 1400 Independence Avenue, SW, Washington, DC 20250-1571, telephone: (202) 720-1414; e-mail: nislam@rus.usda.gov. Information is also available from George L. Johnston, Senior Environmental Biologist, DPC, 3200 East Avenue South, La Crosse, Wisconsin 54601, telephone (608) 787-1322, FAX: (608) 787-1241. His e-mail address is: glj@dairynet.com. RUS seeks written comments on the DPC proposal. Written comments should be submitted to RUS within 30 days of the publication of this notice to the above address.

SUPPLEMENTARY INFORMATION: DPC proposes to construct the facility at a site in Wheaton Township in Chippewa County, Wisconsin. The preferred site is located adjacent to their Elk Mound Substation, which is located north of Highway 29. The primary purpose of the facility is to meet DPC peak electrical load during hot summer weather. Under those conditions the facility's expected output is about 71 MW of power. The proposed project will consist of two simple cycle combustion turbines. Each turbine will have a maximum rating of 35.5 Mw. The generation unit consists of turbines similar to those found in commercial airline engines. The primary fuel will be natural gas and distillate oil will serve as the back up fuel for the plant. A 2.2 miles long new high-pressure gas line from the proposed generating station north to an existing gas line will provide gas supply. The total water usage will be approximately 3 million gallons per year. The generating power station will require approximately 5 acres of land. The substation facilities will also require some upgrading.

The EA is available for public review at the RUS or the headquarters of DPC at the addresses provided in this notice and at the following locations:

• Chippewa Falls Public Library, 105 West Central Street, Chippewa Falls, Wisconsin.

• I. E. Phillips Memorial Public Library, 400 Eau Claire Street, Eau Claire, Wisconsin.

Questions and comments should be sent to RUS at the address provided in this notice. RUS will accept questions and comments on the EA for 30 days from the date of publication of this notice.

Any final action by RUS related to the proposed project will be subject to, and contingent upon, compliance with all relevant Federal environmental laws and regulations and completion of environmental review procedures as prescribed by the 7 CFR Part 1794, Environmental Policies and Procedures.

Dated: August 28, 2000.
Lawrence R. Wolfe,
Acting Director, Engineering and Environmental Staff.

[FR Doc. 00-22394 Filed 8-31-00; 8:45 am]

BILLING CODE 3410-15-P